DEPARTMENT OF COMMERCE

Bureau of Industry and Security

Materials Technical Advisory Committee; Notice of Open Meeting

The Materials Technical Advisory Committee (MTAC) will meet on January 27, 2005, 10:30 a.m., in the Herbert C. Hoover Building, Room 3884, 14th Street between Constitution & Pennsylvania Avenues, NW., Washington, DC. The Committee advises the Office of the Assistant Secretary for Export Administration with respect to technical questions that affect the level of export controls applicable to advanced materials and related technology.

Agenda:

1. Opening remarks.

2. Presentation of papers and comments by the public.

3. Review of Chemical Weapons Convention Schedules.

The meeting will be open to the public and a limited number of seats will be available. Reservations are not accepted. To the extent that time permits, members of the public may present oral statements to the Committee. Written statements may be submitted at any time before or after the meeting. However, to facilitate distribution of public presentation materials to Committee members, the Committee suggests that presenters forward the public presentation materials to Lee Ann Carpenter at Lcarpent@bis.doc.gov.

For more information contact Lee Ann Carpenter on (202) 482-2583.

Dated: December 20, 2004.
Lee Ann Carpenter,
Committee Liaison Officer.

[FR Doc. 04-28103 Filed 12-22-04; 8:45 am]

BILLING CODE 3510-JT-M